DEPARTMENT OF COMMERCE

Census Bureau

Current Retail Sales and Inventory Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U. S. C. 3506 (c) (2) (A)).

DATES: Written comments must be submitted on or before March 29, 2002.

ADDRESSES: Direct all written comments to Madeleine Clayton, Departmental Paperwork Clearance Officer, Department of Commerce, Room 6086, 14th and Constitution Avenue, NW., Washington, DC 20230 (or via the Internet at mclayton@doc.gov).

FOR FURTHER INFORMATION CONTACT: Requests for additional information or copies of the information collection instruments(s) and instructions should be directed to Nancy Piesto, U.S. Census Bureau, Room 2654-FOB 3, Washington, DC 20233-6500, (301) 457-2708.

SUPPLEMENTARY INFORMATION:

I. Abstract

The Current Retail Sales and Inventory Survey provides estimates of monthly retail sales, end-of-month merchandise inventories, and quarterly e-commerce sales of retailers in the United States by selected kinds of business. Also, it provides monthly sales of food service establishments. The Bureau of Economic Analysis (BEA) uses this information to prepare the National Income and Products Accounts and to benchmark the annual input-output tables. Statistics provided from the Current Retail Sales and Inventory Survey are used to calculate the gross domestic product (GDP).

Estimates produced from the Current Retail Sales and Inventory Survey are based on a probability sample. The sample design consists of one fixed panel where all cases are requested to report sales and/or inventories each month.

As of April 2001 (June data month), we started publishing retail sales and inventory estimates on the North American Industry Classification System (NAICS). Prior to that period, estimates were published on the Standard Industrial Classification (SIC) basis. As a result of NAICS, we will continue to collect monthly sales on food services and publish a retail trade and food services total in addition to a retail trade total. NAICS provides a better way to classify individual businesses, and is widely adopted throughout both the public and private sectors. NAICS is more relevant as it identifies more industries that contribute to today's growing economy. NAICS was developed by the United States, Canada, and Mexico in order to produce comparable data between neighboring countries.

In 2000, we redesigned our current retail forms to incorporate a new series of form numbers, and to include the e-commerce screening or data request as a separate item. The content of the forms did not change; therefore there was no change in reporting burden.

Listed below are the new series of retail form numbers, old form numbers, and the description:

New Series | Old Series | Description
SM-44(00)S | B-111(97)S | Non Department Store/Sales Only/WO E-Commerce.
SM-44(00)SE | B-111(97)S | Non Department Store/Sales Only W E-Commerce.
SM-44(00)SS | B-111(97)S | Non Department Store/Sales Only/Screener.
SM-44(00)B | B-111(97)B | Non Department Store/Sales and Inventory/WO E-Comm.
SM-44(00)BE | B-111(97)B | Non Department Store/Sales and Inventory/W E-Comm.
SM-44(00)BS | B-111(97)B | Non Department Store/Sales and Inventory/Screener.
SM-44(00)L | B-111(97)L | Non Department Store/Sales and Inventory/LIFO/WO E-Comm.
SM-44(00)LE | B-111(97)L | Non Department Store/Sales and Inventory/LIFO/W E-Comm.
SM-44(00)LS | B-111(97)L | Non Department Store/Sales and Inventory/LIFO/Screene.
SM-45(00)S | B-101(97)S | Department Store/Sales Only/WO E-Commerce.
SM-45(00)SE | B-101(97)S | Department Store/Sales Only/W E-Commerce.
SM-45(00)SS | B-101(97)S | Department Store/Sales Only/Screener.
SM-45(00)B | B-101(97)B | Department Store/Sales and Inventory/WO E-Commerce.
SM-45(00)BE | B-101(97)B | Department Store/Sales and Inventory/W E-Commerce.
SM-45(00)BS | B-101(97)B | Department Store/Sales and Inventory/Screener.
SM-72(00)S | B-111(97)S | Food Services/Sales Only/WO E-Commerce.
SM-20(00)I | B-113(97)I | Non Department and Department Store/Inventory Only.
SM-20(00)L | B-113(97)L | Non Department and Department Store/Inventory Only/LIFO.

II. Method of Collection

We collect this information by mail, fax, and telephone follow-up.

III. Data

OMB Number: 0607-0717.

Form Number: SM-44(00)S, SM-44(00)SE, SM-44(00)SS, SM-44(00)B, SM-44(00)BE, SM-44(00)BS, SM-44(00)L, SM-44(00)LE, SM-44(00)LS, SM-45(00)S, SM-45(00)SE, SM-45(00)SS, SM-45(00)B, SM-45(00)BE, SM-45(00)BS, SM-72(00)S, SM-20(00)I, and SM-20(00)L.

Type of Review: Regular Submission.

Affected Public: Retail and Food Services firms in the United States.

Estimated Number of Respondents: 10,000.

Estimated Time Per Response: 7.8 minutes.

Estimated Total Annual Burden Hours: 16,000.

Estimated Total Annual Cost: The cost to the respondents for fiscal year 2002 is estimated to be $306,560 based on the median hourly salary of $19.16 for accountants and auditors. (Occupational Employment Statistics-Bureau of Labor Statistics 1999 National Occupational Employment and Wage Estimates, $19.16 represents the median hourly wage of the full-time wage and salary earnings of accountants and auditors)

http://www.bls.gov/oes/1999/oes_13Bu.htm

Respondent's Obligation: Voluntary.

Legal Authority: Title 13, United States Code, Section 182.

IV. Request for Comments

Comments are invited on:(a) Whether the proposed collection of information is necessary for the proper performance of the functions of the agency, including whether the information shall have practical utility; (b) the accuracy of the agency's estimates of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 22, 2002.
Madeleine Clayton,
Departmental Paperwork Clearance Officer, Office of the Chief Information Officer.

[FR Doc. 02-2049 Filed 1-25-02; 8:45 am]

BILLING CODE 3510-07-P